SECURITIES AND EXCHANGE COMMISSION

Sunshine Act Meeting; Cancellation

Federal Register CITATION OF PREVIOUS ANNOUNCEMENT: 83 FR 3239, January 23, 2018

PREVIOUSLY ANNOUNCED TIME AND DATE OF THE MEETING: Wednesday, January 24, 2018 at 11:00 a.m.

CHANGES IN THE MEETING: The Closed Meeting scheduled for Wednesday, January 24, 2018 at 11:00 a.m., has been cancelled.

CONTACT PERSON FOR MORE INFORMATION: For further information and to ascertain what, if any, matters have been added, deleted or postponed, please contact Brent J. Fields of the Office of the Secretary at (202) 551-5400.

Dated: January 23, 2018.
Brent J. Fields,
Secretary.

[FR Doc. 2018-01550 Filed 1-24-18; 11:15 am]

BILLING CODE 8011-01-P